DEPARTMENT OF DEFENSE

Office of the Secretary

Proposed Collection; Comment Request

AGENCY: Office of the Assistant Secretary of Defense for Health Affairs, DoD.

ACTION: Notice.

SUMMARY: In accordance with Section 3506(c)(2)(A) of the Paperwork Reduction Act of 1995, the Office of the Assistant Secretary of Defense for Health Affairs announces the proposed extension of a public information collection and seeks public comment on the provisions thereof. Comments are invited on: (a) Whether the proposed extension of collection of information is necessary for the proper performance of the functions of the agency, including whether the information shall have practical utility; (b) the accuracy of the agency's estimate of the burden of the information collection; (c) ways to enhance the quality, utility, and clarity of the information to be collected; and (d) ways to minimize the burden of the information collection on respondents, including through the use of automated collection techniques or other forms of information technology.

DATES: Consideration will be given to all comments received September 24, 2002.

ADDRESSES: Written comments and recommendations on the information collection should be sent to TRICARE Management Activity, Office of General Counsel, 16401 E. Centretech Parkway, Attn: James Douglas, Aurora, CO 80011.

FOR FURTHER INFORMATION CONTACT: To request more information on this proposed information collection, please write to the above address or call TRICARE Management Activity, Office of General Counsel at (303) 676-3705.

Title Associated with Form, and OMB Number: Statement of Personal Injury—Possible Third Party Liability Champus, DD Form 2527, OMB Number 0720-0003.

Needs and Uses: This information collection is completed by CHAMPUS beneficiaries suffering from personal injuries and receiving medical care at Government expense. The information is necessary in the assertion of the Government's right to recovery under the Federal Medical Care Recovery Act. The data is used in the evaluation and processing of these claims.

Affected Public: Individuals or household, Federal government.

Annual Burden Hours: 87,500.

Number of Respondents: 350,000.

Responses per Respondent: 1.

Average Burden per Response: 35 minutes.

Frequency: On occasion, only when a beneficiary is insured under circumstances creating possible liability in a third party.

SUPPLEMENTARY INFORMATION:

Summary of Information Collection

The Federal Medical Care Recovery Act, 42 U.S.C. 25/651-2653 as implemented by Executive Order No. 11060 and 28 CFR part 43 provides for recovery of the reasonable value of medical care provided by the United States to a person who is injured or suffers a disease under circumstances creating tort liability in some third person. DD Form 2527 is required for investigating and asserting claims in favor of the United States arising out of such incidents.

When a claim for CHAMPUS benefits is identified as involving possible third party liability and the information is not submitted with the claim, the TRICARE/CHAMPUS contractor requests that the injured party (or a designee) complete DD Form 2527. To protect the interests of the Government, the contractor suspends claims processing until the requested third party liability information is received. The contractor conducts a preliminary evaluation based upon the collection of information and refers the case to a designated appropriate legal officer of the Uniformed Services. The responsible Uniformed Services legal officer uses the information as a basis for asserting and settling the Government's claim. When appropriate, the information is forwarded to the Department of Justice as the basis for litigation.

Section 1 of the Form is used to collect general information, such as name, address and telephone numbers about the military sponsor and the injured beneficiary.

Section 2 of the Form allows the injured beneficiary to explain in his or her own words how the injury occurred. This allows the beneficiary to explain that he or she was not injured in an accident or that no third party was responsible. If either of these conditions exist, the beneficiary does not have to complete the rest of the form.

Section 3 of the Form is used to collect information about accidents that do not involve motor vehicles. Information such as location, time, date, property owner's name and address and the names of persons involved or witnesses is collected in this section of the form. Other information relating to police investigations, other injured family members, whether the accident was work related and insurance coverage is also collected.

Section 4 of the Form is used to collect information about motor vehicle accidents. Most of the investigations for possible third party liability involve motor vehicle accidents. A beneficiary must attach a copy of the official police report to the form. Additional information not usually included in police reports is entered in Section 4, including information about insurance coverage of the parties, and whether the accident was work related is collected.

Section 5 of the Form is used for miscellaneous information such as possible medical treatment in a Government hospital, the name and address of the beneficiary's attorney, and information regarding any possible releases or settlements with another party to the accident.

Section 6 of the Form contains the certification, date and signature of the beneficiary (or a designee).

Dated: July 22, 2002.
Patricia L. Toppings,
Alternate OSD Federal Register Liaison Officer, Department of Defense.

[FR Doc. 02-18901 Filed 7-25-02; 8:45 am]

BILLING CODE 5001-08-M